COMMITTEE FOR PURCHASE FROM PEOPLE WHO ARE BLIND OR SEVERELY DISABLED

Procurement List; Proposed Deletions

AGENCY: Committee for Purchase From People Who Are Blind or Severely Disabled.

ACTION: Proposed Additions to and Deletions from the Procurement List.

SUMMARY: The Committee is proposing to add service(s) to the Procurement List that will be furnished by nonprofit agencies employing persons who are blind or have other severe disabilities and deletes product(s) previously furnished by such agencies.

DATES: Comments must be received on or before: April 13, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

In accordance with 41 CFR 51-5.3(b), the Committee intends to add this services requirement to the Procurement List as a mandatory purchase only for the contracting activity listed at the location listed with the proposed qualified nonprofit agency as the authorized source of supply. Prior to adding the service to the Procurement List, the Committee will consider other pertinent information, including information from Government personnel and relevant comments from interested parties regarding the Committee's intent to geographically limit this services requirement.

The following service(s) are proposed for addition to the Procurement List for production by the nonprofit agencies listed:

Service(s)

Service Type: Janitorial Service

Mandatory for: DLA, DLA Distribution Depot, Robins AFB, Warner Robins, GA

Authorized Source of Supply: Good Vocations Inc., Augusta, GA

Contracting Activity: DLA, DLA Distribution, New Cumberland, PA

Deletions

The following product(s) are proposed for deletion from the Procurement List:

Product(s)

NSN(s)—Product Name(s):

8415-01-057-3503—Socks, Extreme Cold Weather 100% Wool, ECWCS, White, Extra Small

8415-00-177-7994—Socks, Extreme Cold Weather 100% Wool, ECWCS, White, Large

Authorized Source of Supply: Development Workshop, Inc., Idaho Falls, ID

Contracting Activity: W6QK ACC-APG NATICK, NATICK, MA

NSN(s)—Product Name(s):

8415-01-057-3503—Socks, Extreme Cold Weather 100% Wool, ECWCS, White, Extra Small

8415-00-177-7994—Socks, Extreme Cold Weather 100% Wool, ECWCS, White, Large

Authorized Source of Supply: ReadyOne Industries, Inc., El Paso, TX

Authorized Source of Supply: Dawn Enterprises, Inc., Blackfoot, ID

Contracting Activity: W6QK ACC-APG NATICK, NATICK, MA

NSN(s)—Product Name(s):

8415-01-444-1163—Coat, Chemical Protective, Type II, JSLIST, Army, Woodland Camouflage, SXS

8415-01-444-1169—Coat, Chemical Protective, Type II, JSLIST, Army, Woodland Camouflage, SS

8415-01-444-1200—Coat, Chemical Protective, Type II, JSLIST, Army, Woodland Camouflage, MS

8415-01-444-1238—Coat, Chemical Protective, Type II, JSLIST, Army, Woodland Camouflage, MR

8415-01-444-1249—Coat, Chemical Protective, Type II, JSLIST, Army, Woodland Camouflage, ML

8415-01-444-1265—Coat, Chemical Protective, Type II, JSLIST, Army, Woodland Camouflage, LR

8415-01-444-1270—Coat, Chemical Protective, Type II, JSLIST, Army, Woodland Camouflage, LL

8415-01-444-1435—Trousers, Chemical Protective, Type II, JSLIST, Army, Woodland Camouflage, SXS

8415-01-444-1439—Trousers, Chemical Protective, Type II, JSLIST, Army, Woodland Camouflage, SS

8415-01-444-1613—Trousers, Chemical Protective, Type II, JSLIST, Army, Woodland Camouflage, MS

8415-01-444-2308—Trousers, Chemical Protective, Type II, JSLIST, Army, Woodland Camouflage, ML

8415-01-444-2310—Trousers, Chemical Protective, Type II, JSLIST, Army, Woodland Camouflage, MR

8415-01-444-2325—Trousers, Chemical Protective, Type II, JSLIST, Army, Woodland Camouflage, LR

8415-01-444-2338—Trousers, Chemical Protective, Type II, JSLIST, Army, Woodland Camouflage, LL

8415-01-505-1241—Coat, Chemical Protective, Type II, JSLIST, Army, Woodland Camouflage, XLL

8415-01-505-1245—Coat, Chemical Protective, Type II, JSLIST, Army, Woodland Camouflage, XXLL

8415-01-505-1274—Trousers, Chemical Protective, Type II, JSLIST, Army, Woodland Camouflage, XLL

8415-01-505-1277—Trousers, Chemical Protective, Type II, JSLIST, Army, Woodland Camouflage, XXLL

8415-01-506-7546—Coat, Chemical Protective, Type II, JSLIST, Army, Woodland Camouflage, XXXLL

8415-01-506-7698—Trousers, Chemical Protective, Type II, JSLIST, Army, Woodland Camouflage, XXXLL

8415-01-509-8265—Trousers, Chemical Protective, Type II, JSLIST, Army, Woodland Camouflage, XLR

8415-01-509-8296—Coat, Chemical Protective, Type II, JSLIST, Army, Woodland Camouflage, XLR

Authorized Source of Supply: ReadyOne Industries, Inc., El Paso, TX

Authorized Source of Supply: Goodwill Industries of South Florida, Inc., Miami, FL

Contracting Activity: DLA TROOP SUPPORT, PHILADELPHIA, PA

Michael R. Jurkowski,
Director, Business Operations.

[FR Doc. 2025-04112 Filed 3-13-25; 8:45 am]

BILLING CODE 6353-01-P